DEPARTMENT OF HOMELAND SECURITY

Federal Emergency Management Agency

[Docket ID FEMA-2022-0023]

RIN 1660-ZA26

Hazard Mitigation Assistance Program and Policy Guide

AGENCY: Federal Emergency Management Agency, DHS.

ACTION: Notice, request for comments.

SUMMARY: The Federal Emergency Management Agency (FEMA) is accepting comments on its 2022 update to the Hazard Mitigation Assistance (HMA) Program and Policy Guide (formerly 2015 HMA Guidance and Addendum). The HMA Program and Policy Guide was last published in 2015. The primary purpose of this update is to incorporate existing policies and guidance materials issued since 2015, simplify guidance materials, and revise the document to increase overall accessibility and organization.

DATES: Comments must be received by September 23, 2022.

ADDRESSES: You may submit comments, identified by Docket ID FEMA-2022-0023, via the Federal eRulemaking Portal: http://www.regulations.gov. Follow the instructions for submitting comments.

FOR FURTHER INFORMATION CONTACT: Jennie Orenstein, Branch Chief, Hazard Mitigation Division, Federal Emergency Management Agency, 400 C Street SW, Washington, DC 20472, (202) 212-4071, jennie.gallardy@fema.dhs.gov.

SUPPLEMENTARY INFORMATION:

I. Public Participation

Interested persons are invited to participate in this update to the Hazard Mitigation Assistance (HMA) Program and Policy Guide (formerly 2015 HMA Guidance and 2015 HMA Guidance Addendum) by submitting comments and related materials. We will consider all comments and material received during the comment period.

If you submit a comment, include the Docket ID FEMA-2022-0023, indicate the specific section of this document to which each comment applies, and give the reason for each comment. All submissions may be posted, without change, to the Federal e-Rulemaking Portal at http://www.regulations.gov, and will include any personal information you provide. Therefore, submitting this information makes it public. For more about privacy and the docket, visit https://www.regulations.gov/document?D=DHS-2018-0029-0001.

Viewing comments and documents: For access to the docket to read background documents or comments received, go to the Federal e-Rulemaking Portal at http://www.regulations.gov.

II. Background

FEMA's Hazard Mitigation Assistance (HMA) grant programs provide funding for eligible mitigation activities that reduce disaster losses and protect life and property from future disaster damages.

The proposed 2022 HMA Program and Policy Guide consolidates the 2015 HMA Guidance and the 2015 HMA Guidance Addendum into one HMA guidance document, and renames the document as “Hazard Mitigation Assistance Program and Policy Guide.” The HMA Program and Policy Guide covers the following hazard mitigation assistance programs: (1) the Flood Mitigation Assistance (FMA) program; (2) the Hazard Mitigation Grant Program (HMGP); (3) the Hazard Mitigation Grant Program Post Fire (HMGP Post Fire); and (4) the Building Resilient Infrastructure and Communities (BRIC) program. FEMA implemented the BRIC program following the passage of the Disaster Recovery Reform Act of 2018, which amended Section 203 of the Stafford Act.¹

¹ The Pre-Disaster Mitigation (PDM) program is no longer covered in the HMA Program and Policy Guide. Congress may appropriate additional funds under Section 203 outside of the established HMA programs, and such funds may be administered through the PDM program. FEMA intends to announce these funding opportunities through Notices of Funding Opportunity, which will specify the applicable program requirements.

The updated HMA Program and Policy Guide includes the following content updates:

• Highlights FEMA priorities such as resilience and climate adaptation, community lifelines, whole community, equity, capability and capacity building, comprehensive planning, and building codes.

• Incorporates changes resulting from the Disaster Recovery Reform Act.² For instance, the proposed 2022 HMA Program and Policy Guide incorporates the BRIC Policy,³ the HMGP—Post Fire Policy,⁴ the HMGP Management Costs Interim Policy,⁵ the earthquake early warning systems factsheet,⁶ and expanded wildfire mitigation activities.⁷

² Div. D of Public Law 115-254, 132 Stat. 3438.

³ FEMA Policy 104-008-05, Mitigation Assistance: Building Resilient Infrastructure and Communities, available at https://www.fema.gov/grants/mitigation/building-resilient-infrastructure-communities (last accessed July 17, 2022).

⁴ FEMA Policy 207-088-2, Hazard Mitigation Grant Program—Post Fire, available at https://www.fema.gov/sites/default/files/2020-07/fema_DRRA-1204-policy.pdf (last accessed Apr. 1, 2021).

⁵ FEMA Policy 104-11-1, Hazard Mitigation Grant Program Management Costs (Interim), available at https://www.fema.gov/sites/default/files/2020-07/fema_DRRA-1215-hazard-mitigation-grant-program-management-costs-interim-policy.pdf (last accessed Apr. 1, 2021).

⁶ FEMA Fact Sheet, Disaster Recovery Reform Act and Earthquake Early Warning Systems, available at https://www.fema.gov/sites/default/files/2020-09/fema_drra-earthquake-early-warning-systems_fact-sheet_September-2020.pdf (last accessed Apr. 1, 2021).

⁷ FEMA Job Aid, Job Aid for Disaster Recovery Reform Act, Section 1205, Additional Activities for Wildfire & Wind Implementation under Hazard Mitigation Assistance Programs, Dec. 3, 2019, available at https://www.fema.gov/sites/default/files/2020-07/fema_DRRA-1205-implementation-job-aid.pdf (last accessed May 19, 2021).

• Incorporates additional policy changes that were published after 2015, such as the Ecosystem Service Benefits in Benefit-Cost Analysis for FEMA's Mitigation Program Policy.⁸

⁸ FEMA Policy 108-024-02, Ecosystem Service Benefits in Benefit-Cost Analysis for FEMA's Mitigation Program Policy, available at https://www.fema.gov/sites/default/files/2020-09/fema_ecosystem-service-benefits_policy_september-2020.pdf (last accessed Apr. 1, 2021).

• Expands information on project types in Part 12 based on existing job aids and factsheets, such as aquifer storage and recovery,⁹ floodplain and stream restoration,¹⁰ flood diversion and storage,¹¹ wind retrofit,¹² acquisition projects,¹³ and generators.¹⁴

⁹ FEMA, Climate Resilient Mitigation Activities Aquifer Storage and Recovery Fact Sheet (undated); FEMA, Job Aid: Aquifer Storage and Recovery (Aug. 2016); FEMA, Acquifer Storage and Recovery Supplemental (Dec. 2016).

¹⁰ FEMA, Floodplain and Stream Restoration Fact Sheet (undated); FEMA, Job Aid: Floodplain and Stream Restoration (Aug. 2016); FEMA, Floodplain and Stream Restoration Supplemental (Dec. 2016).

¹¹ FEMA, Flood Diversion and Storage Fact Sheet (undated); FEMA Job Aid: Flood Diversion and Storage (Aug. 2016); FEMA, Flood Diversion and Storage Supplemental (Dec. 2016).

¹² FEMA, Memorandum, Cost Effectiveness Determination for Non-Residential Hurricane Wind Retrofit Measures Funded by FEMA (Mar. 1, 2018), available at https://www.fema.gov/sites/default/files/2020-05/fema_bca_pre-calculated_non-residential-wind-retrofit.pdf (last accessed May 19, 2021).

¹³ FEMA, Acquisition and Relocation Job Aid (Aug. 2017), available at https://www.fema.gov/sites/default/files/2020-09/fema_acquisition_relocation_job_aid_08-21-17.pdf (last accessed May 19, 2021).

¹⁴ FEMA, Job Aid, Eligibility of Generators as a Fundable Project by the Hazard Mitigation Grant Program and Pre-Disaster Mitigation Program, available at https://www.fema.gov/sites/default/files/2020-09/fema_eligibility_generators_fundable_project_under_hmgp_pdm_02-19-15.pdf (last accessed May 19, 2021).

• Incorporates 2021 updates to Hazard Mitigation Assistance and Mitigation Planning regulations.¹⁵

¹⁵ FEMA, FEMA's Hazard Mitigation Assistance and Planning Regulations, 86 FR 50653 (Sept. 10, 2021).

• Clarifies issues specific to HMGP, including application period, the HMGP 12-month lock-in and de-obligation, extensions, and the total award amount for the purpose of management costs.

• Extends the period of performance for HMGP from 36 to 48 months.

• Expands the eligibility of codes and standards assistance in Part 11.

• Incorporates the 2020 regulatory changes made to 2 CFR part 200 ¹⁶ and expands information on grants management requirements and procedures.

¹⁶ See 85 FR 49506 (Aug. 13, 2020).

• Expands guidance content and resources on mitigation planning, recognizing its importance to effective hazard mitigation.

• Includes new guiding principles, such as nature-based solutions and the National Mitigation Investment Strategy.¹⁷

¹⁷ https://www.fema.gov/sites/default/files/2020-10/fema_national-mitigation-investment-strategy.pdf (last accessed Apr. 1, 2021).

• Makes nonsubstantive revisions to increase overall accessibility and organization of the document.

FEMA seeks comment on the proposed 2022 HMA Program and Policy Guide, which is available online at http://www.regulations.gov in docket ID FEMA-2022-0023. Based on the comments received, FEMA may make appropriate revisions to the proposed 2022 HMA Program and Policy Guide. When or if FEMA issues a final policy, FEMA will publish it on its website at https://www.fema.gov/grants/mitigation/hazard-mitigation-assistance.

Most helpful to the agency will be comments that provide concrete suggestions and the reasoning for a proposed approach or change.

Authority: 6 U.S.C. 101 et seq.; 42 U.S.C. 4001 et seq.; 42 U.S.C. 5121 et seq.

Deanne Criswell,
Administrator, Federal Emergency Management Agency.

[FR Doc. 2022-17889 Filed 8-23-22; 8:45 am]

BILLING CODE 9111-BW-P